DEPARTMENT OF TRANSPORTATION

Federal Aviation Administration

[Summary Notice No. 2016-108]

Petition for Exemption; Summary of Petition Received; Douglas Myers

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before November 21, 2016.

ADDRESSES: Send comments identified by docket number FAA-2016-8684:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Christopher Morris, Office of Rulemaking, Federal Aviation Administration, 800 Independence Ave. SW., Washington, DC 20591; (202) 267-4418; chris.morris@faa.gov.

This notice is published pursuant to 14 CFR 11.85.

Issued in Washington, DC, on October 25, 2016.
Dale A. Bouffiou,
Director, Office of Rulemaking.

Petition for Exemption

Docket No.: FAA-2016-8684.

Petitioner: Douglas Myers.

Section(s) of 14 CFR Affected: § 107.65.

Description of Relief Sought: The petitioner, a Certificated Flight Instructor, requests relief from 14 CFR 107.65, which provides that a holder of a part 61 pilot certificate (other than student pilot) may establish aeronautical knowledge recency by meeting the flight review requirements specified in § 61.56 within the previous 24 months and completing either an initial or recurrent training course covering the areas of knowledge specified in § 107.74(a) or (b) in a manner acceptable to the Administrator. The petitioner proposes instead that he, and others similarly situated, be permitted to establish aeronautical knowledge recency by holding an unexpired flight instructor certificate and completing a flight instructor refresher course in accordance with 14 CFR 61.197(a).

[FR Doc. 2016-26239 Filed 10-28-16; 8:45 am]

BILLING CODE 4910-13-P